DEPARTMENT OF AGRICULTURE

Rural Business-Cooperative Service

Rural Housing Service

Rural Utilities Service

Notice of Request for Revision of a Currently Approved Information Collection

AGENCY: Rural Business-Cooperative Service, Rural Housing Service, Rural Utilities Service, U.S. Dept. Of Agriculture, (USDA).

ACTION: Proposed collection; comments requested.

SUMMARY: In accordance with the Paperwork Reduction Act of 1995, this notice announces the USDA Rural Development intention to request a revision for a currently approved information collection under Section 6025, Strategic Economic and Community Development (SECD), under the Agricultural Act of 2014 (2014 Farm Bill).

DATES: Comments on this notice must be received by October 19, 2018 to be assured of consideration.

FOR FURTHER INFORMATION CONTACT: Angela M. Callie, USDA Rural Development, Innovation Center, U.S. Department of Agriculture, 1400 Independence Ave. SW, Washington, DC 20250 [202-568-9738, FAX Fax: 855-742-4168].

SUPPLEMENTARY INFORMATION: Title: Strategic Economic and Community Development, SECD—Section 6025.

OMB Number: 0570-0068.

Expiration Date of Approval: Dec 31, 2018.

Type of Request: Revision of a currently approved information collection.

Abstract: As authorized under Section 6025 of the Agricultural Act of 2014 (2014 Farm Bill), the Strategic Economic and Community Development program provides the Secretary of Agriculture the authority to give priority to projects that support strategic economic development or community development plans. The programs from which funds will be prioritized include community facility programs, water and waste disposal programs, and rural business and cooperative development programs.

This collection of information is necessary for the Agency to identify projects eligible for priority under the Section 6025 Program. In accordance with the Paperwork Reduction Act of 1995 (Pub. L. 104-13, 44 U.S.C. Chapter 35), the Agency is submitting this information collection package to the Office of Management and Budget (OMB) for review and clearance to implement the Section 6025 Program.

Estimate of Burden: Public reporting burden for this collection of information is estimated to average 9 hours per response.

Respondents: Municipalities, Authorities, nonprofits, Lenders, businesses.

Estimated Number of Respondents: 374.

Estimated Number of Responses per Respondent: 1.

Estimated Total Annual Burden on Respondents: 3,348 hours.

Comments: Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Jeanne Jacobs, Regulations and Paperwork Management Branch, Support Services Division, U.S. Department of Agriculture, Rural Development, STOP 0742, 1400 Independence Avenue SW, Washington, DC 20250-0742. All comments received will be available for public inspection during regular business hours at the same address.

All responses to this notice will be summarized and included in the request for OMB approval. All comments will become a matter of public record.

Dated: August 10, 2018.
Bette Brand,
Administrator, Rural Business Service.
Dated: August 14, 2018.
Joel Baxley,
Administrator, Rural Housing Service.
Dated: August 14, 2018.
Kenneth Johnson,
Administrator, Rural Utilities Service.

[FR Doc. 2018-17897 Filed 8-17-18; 8:45 am]

BILLING CODE 3410-XY-P